DEPARTMENT OF LABOR

Employment and Training Administration

Proposed Information Collection Request of the Resource Justification Model (RJM); Comment Request

AGENCY: Employment and Training Administration (ETA), Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed.

A copy of the proposed information collection request (ICR) can be obtained by contacting the office listed below in the addressee section of this notice or by accessing: http://www.doleta.gov/OMBCN/OMBControlNumber.cfm.

DATES: Written comments must be submitted to the office listed in the addressee section below on or before August 17, 2010.

ADDRESSES: Send comments to Lauren C. Harrel, U.S. Department of Labor, Employment and Training Administration, Office of Unemployment Insurance, 200 Constitution Avenue, NW., Frances Perkins Bldg. Room S-4531, Washington, DC 20210, telephone number (202) 693-2992 (this is not a toll-free number). E-mail address is harrel.lauren@dol.gov and fax number is (202) 693-2874 (this is not a toll-free number).

SUPPLEMENTARY INFORMATION:

I. Background

The collection of actual Unemployment Insurance (UI) administrative cost data from states' accounting records and projected expenditures for upcoming years is accomplished through the RJM data collection instrument. The data collected consists of the actual, most recently completed fiscal year's program expenditures and hours broken out by functional activity and two years of projected expenditures. The actual cost data informs ETA's administrative funding allocation model so that state UI program administration funds are allocated as equitably as possible among states.

II. Desired Focus of Comments

Currently, the Department of Labor is soliciting comments concerning the proposed extension of the RJM data collection. Comments are requested to:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the information collection on those who are to respond, including the use of appropriate automated, electronic, mechanical, or other technological collection techniques or other forms of information technology, e.g., permitting electronic submissions of responses.

III. Current Actions

The data collected within the RJM state submissions are used as input to the process of distributing UI program appropriated funds among the states and inform ETA of the funding requirements states are anticipating.

Type of Review: Extension without change.

Agency: Employment and Training Administration.

Title: Resource Justification Model.

OMB Number: 1205-0430.

Affected Public: State Government.

Cite/Reference/Form/etc: Social Security Act, Section 303(a)(b).

Total Respondents: 53 State Workforce Agencies.

Frequency: Annually.

Total Responses: 53 respondents × 4 submittals = 212 responses.

Average Estimated Response Time: 123 hours.

Total Estimated Burden Hours: 6,519.

Form/activity | Total respondents | Frequency | Total responses | Average time per response (hours) | Total estimated burden (hours)
Crosswalk | 53 | Annually | 53 | 108 | 5,724
ACCT SUM | 53 | Annually | 53 | 4 | 212
RJM 1-6 | 53 | Annually | 53 | 3 | 159
Narrative | 53 | Annually | 53 | 8 | 424
Totals |  |  | 212 |  | 6,519

Total Burden Cost (capital/startup): $0.

Total Burden Cost (operating/maintaining): $0.

Comments submitted in response to this solicitation will be summarized and/or included in the request for Office of Management and Budget approval of the information collection request; they will also become a matter of public record.

Dated: June 11, 2010.
Jane Oates,
Assistant Secretary, Employment and Training Administration.

[FR Doc. 2010-14707 Filed 6-17-10; 8:45 am]

BILLING CODE 4510-FW-P